DEPARTMENT OF COMMERCE

National Oceanic and Atmospheric Administration

RIN 0648-XC449

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held Tuesday, February 5, 2013 through Friday, February 8, 2013.

ADDRESSES: The meeting will be held at the Marriott Mobile, 3101 Airport Boulevard, Mobile, AL 36606; telephone: (251) 476-6400.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Committees

Tuesday, February 5, 2013

8:30 a.m.-12:30 p.m.—The Full Council in a CLOSED SESSION will meet and interview the Executive Director applicants.

—Recess—

2 p.m.-4 p.m.—The Full Council in a CLOSED SESSION will continue interviewing applicants.

—Recess—

Wednesday, February 6, 2013

8:30 a.m.-12 noon and 1:30 p.m.-5:30 p.m.—The Reef Fish Management Committee will review a Scoping Document for Amendment 28—Red Snapper Allocations; take Final Action on Vermilion Snapper, Yellowtail Snapper and Venting Tool Framework Action; discuss For-Hire Red Snapper Days-at-Sea Pilot Program; review comments received on Scoping Document Amendment 39—Regional Management of Recreational Red Snapper; receive a summary from the Socioeconomic Scientific and Statistical Committee Meeting; and discuss Exempted Fishing Permits related to Reef Fish (if any).

The Reef Fish Committee will also discuss issues addressed during the January 7-8, 2013 Reef Fish Committee Meeting, that includes: Draft 2013 Red Snapper Framework Action; discussions of Red Snapper Allocation, Red Snapper IFQ 5-Year Review and Red Snapper Regional Management Issues; and, any open discussions pertaining to Red Snapper Management issues.

—Recess—

Immediately following the Committee Recess will be the Informal Question & Answer Session on Gulf of Mexico Fishery Management Issues.

Thursday, February 7, 2013

8:30 a.m.-9:30 a.m.—The Data Collection Committee will review a draft Framework Action to the Fishery Management Plans for Reef Fish Resources of the Gulf of Mexico and Coastal Migratory Pelagics of the Gulf of Mexico and South Atlantic Regions; review of Joint South Atlantic/Gulf of Mexico Generic Headboat Reporting in the South Atlantic Amendment; and discuss the Joint South Atlantic/Gulf of Mexico Generic Commercial Logbook Report Amendment.

9:30 a.m.-10 a.m.—The Shrimp Committee will review the 2011 Cooperative Texas Closure, the Preliminary Effort Report for 2012, and the Status Report on Electronic Logbook Program.

10 a.m.-10:30 a.m.—The Ad Hoc Restoration Committee will review funds for Restoration Activities; and receive a summary of RESTORE Meetings.

—Recess—

Council

Thursday, February 7, 2013

10:30 a.m.—The Council meeting will begin with a Call to Order and Introductions.

10:35 a.m.-10:50 a.m.—The Council will review the agenda and approve the minutes.

10:50 a.m.-11:30 a.m.—The Council will discuss Other Business items, as such: receive an update of the Marine Resource Education Program; receive a summary from the HMS Advisory Panel Meeting; review of the HMS Amendment Comments; receive updates to Examinations and Certificates of Compliance; receive summaries from the following meetings attended by Council members and staff: South Atlantic Fishery Management Council Meeting, Gulf of Mexico Large Ecosystems Meeting, Episodic Events Workshop, Gulf of Mexico Alliance PIT and Kemps Ridley Stock Assessment Workshop. The Council will also receive an update on Reorganization of Federal Fishing Regulations.

1 p.m.-1:15 p.m.—The Council will review Exempted Fishing Permits (EFP), if any.

1:15 p.m.-5 p.m.—The Council will receive public testimony on Framework Action to set the 2013 Red Snapper Quotas; the 2011 Cooperative Texas Shrimp Closures; Framework Action for Vermilion and Yellowtail Snapper ACL and Venting Tool Requirement; and Exempted Fishing Permits (EFPs), if any. The Council will also hold an open public comment period regarding any other fishery issues or concerns. People wishing to speak before the Council should complete a public comment card prior to the comment period.

Friday, February 8, 2013

8:30 a.m.-9 a.m.—The Council will review and deem changes to the Proposed Rule for the Fishery Management Plan for Regulating Offshore Marine Aquaculture in the Gulf of Mexico.

9:30 a.m.-9:45 a.m.—The Council will vote on Exempted Fishing Permits (if any).

9:45 a.m.-3:30 p.m.—The Council will receive committee reports from Data Collection, Shrimp, Ad Hoc Restoration, and Reef Fish. Review of Action Schedule items will follow from 3:30 p.m. to 3:45 p.m.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council Office (see ADDRESSES) at least 5 working days prior to the meeting.

Dated: January 15, 2013.
Tracey L. Thompson,
Acting Deputy Director, Office of Sustainable Fisheries, National Marine Fisheries Service.

[FR Doc. 2013-01050 Filed 1-17-13; 8:45 am]

BILLING CODE 3510-22-P